DEPARTMENT OF VETERANS AFFAIRS

Solicitation of Nominations for Appointment to the National Research Advisory Council

ACTION: Notice.

SUMMARY: The Department of Veterans Affairs (VA) is seeking nominations of qualified candidates to be considered for membership on the National Research Advisory Council (Council). The Council provides advice to the Secretary of Veterans Affairs (Secretary) and the Under Secretary for Health (USH), and makes recommendations on the nature and scope of research and development sponsored and/or conducted by the Veterans Health Administration (VHA) to include: (1) The policies and projects of the Office of Research and Development (ORD); (2) the focus of research on the high priority health care needs of Veterans; (3) the balance of basic, applied, and outcomes research; (4) the scientific merit review process; (5) the appropriate mechanisms by which ORD can leverage its resources to enhance the research financial base; (6) the rapid response to changing health care needs, while maintaining the stability of the research infrastructure; and (7) the protection of human subjects of research.

DATES: Nominations for membership on the Council must be received no later than 5:00 p.m. EST on August 15, 2017. Packages received after this time will not be considered for the current membership cycle.

ADDRESSES: All nominations should be mailed to Veterans Health Administration, Department of Veterans Affairs, 810 Vermont Avenue NW., (10P9), Washington, DC 20420, emailed (recommended) to Melissa.Cooper@va.gov, or faxed to (202) 495-6196.

FOR FURTHER INFORMATION CONTACT: Melissa Cooper, Designated Federal Officer, Veterans Health Administration, Department of Veterans Affairs, 810 Vermont Avenue NW., (10P), Washington, DC 20420, Telephone (202) 461-6044. (This is not a toll free number.) A copy of the Council's charter and list of the current membership can be obtained by contacting Mrs. Cooper or by accessing the Web site: https://www.va.gov/ADVISORY/NRAC.asp

SUPPLEMENTARY INFORMATION: The Council advises the Secretary and the USH on all matters related to the research and development program, and conducts analyses and develops reports or other materials as necessary. In order to avoid duplication of effort, the Council is encouraged to review deliberations of other committees or entities, and may incorporate or otherwise use the results of deliberations of such entities. As a part of its function, the Council may accept for consideration suggestions for research and development from Congress, VA and non-VA scientists, Veterans and their representatives, and the general public.

The Council meets at least four times annually, which may include a site visit to a VA field location. In accordance with Federal Travel Regulation, members will receive travel expense reimbursement and per diem for any travel made in connection with their duties as members of the Council.

Authority: The Committee was established by the directive of the Secretary, in accordance with the provisions of the Federal Advisory Committee Act, as amended, 5 U.S.C. App. 2.

Membership Criteria and Qualifications: VHA is requesting nominations for upcoming vacancies on the Committee. In accordance with the Council's current charter, the Council will be comprised of not more than 12 members. Members will be selected from knowledgeable VA and non-VA experts, and Veterans' community representatives with special qualifications and competence to deal effectively with research and development issues in the VA.

Appropriate categories of primary expertise that may be represented include:

a. Basic biomedical research;

b. rehabilitation research and development;

c. health services research and development;

d. clinical research;

e. geriatric care;

f. primary care;

g. special Veterans population health issues;

h. occupational and environmental health research;

i. mental health and behavioral research; and

j. surgery.

In addition, the Council will have at least one Veteran as a member to ensure an important perspective on the health problems of Veterans.

The Secretary will appoint members for overlapping 2-year terms of service and may reappoint members for one additional term. The Secretary will appoint the Chair for a term of not more than 3 years and may reappoint the Chair for one additional term. Several members may be regular government employees, but the majority of the Council's membership will be special government employees.

Requirements for Nomination Submission:

Nominations should be typed in 12 point font (one nomination per nominator). Nomination package should include:

(1) A letter of nomination that clearly states the name and affiliation of the nominee, the basis for the nomination (i.e., specific attributes which qualify the nominee for service in this capacity);

(2) A statement from the nominee indicating that he/she is a U.S. citizen and is willing to serve as a member of the Committee;

(3) A statement from the nominee that that he/she appears to have no conflict of interest that would preclude membership;

(4) The nominee's contact information, including name, mailing address, telephone numbers, and email address;

(5) A current resume or curriculum vitae (CV); and

(6) A cover letter.

The cover letter must summarize the nominee's interest in serving on the Council and contributions she/he can make to the work of the Council, his/her current engagement in relevant Veterans service activities, and his/her the military branch affiliation and timeframe of military service (if applicable). Finally, please include in the cover letter the nominee's complete contact information (name, address, email address, and phone number); and a statement confirming that she/he is not a Federally-registered lobbyist. The resume/CV should show professional work experience, publications, academic affiliations, and Veterans service involvement, and highlight any service related to issues considered by the National Research Advisory Council. Note that VA will conduct an ethics review for each selected nominee.

Self-nominations will be accepted. Any letters of nomination from organizations or other individuals should accompany the package when it is submitted. Non-Veterans are also eligible for nomination.

Additional information regarding this issue can be found at www.federalregister.gov/articles/2014/08/13/2014-19140/revised-guidance-onappointment-of-lobbyists-to-federal-advisory-Councils-boards-and-commissions.

The Department makes every effort to ensure that the membership of VA Federal advisory Committees is fairly balanced in terms of points of view represented and the committee's capabilities. Every effort is made to ensure that a broad representation of geographic areas, gender, racial and ethnic minority groups, and the disabled are given consideration for membership. Appointment to this Committee shall be made without discrimination because of a person's race, color, religion, sex (including gender identity, transgender status, sexual orientation, and pregnancy), national origin, age, disability, or genetic information. Other considerations to promote a balanced membership may include: Longevity of military service, significant deployment and research experience, ability to handle complex issues, experience running complex organizations, special qualifications, and competence to effectively advise on VA research and development issues.

Dated: July 13, 2017.
LaTonya L. Small,
Federal Advisory Committee Management Officer.

[FR Doc. 2017-15062 Filed 7-17-17; 8:45 am]

BILLING CODE 8320-01-P